DEPARTMENT OF TRANSPORTATION

Federal Aviation Administration

Notice of Intent of Waiver/Release With Respect to Land; Lakefield Airport, Celina, Ohio

AGENCY: Federal Aviation Administration (FAA), DOT.

ACTION: Notice.

SUMMARY: The FAA is considering a proposal to change approximately 7.07 acres of airport land from aeronautical use to non-aeronautical use and to authorize the sale of this airport property located at Lakefield Airport, Celina, Ohio. The aforementioned land is not needed for aeronautical use. The subject properties, airport parcels 11a and 13a, are bound on the south side by the south line of the southwest quarter of section 30, on the west by existing industrial parcels and the Franklin Drive right-of-way, and on the north and east by airport property. Currently parcel #11a is a maintained turf field and parcel #13a is being utilized as farmland. The airport is proposing the release and sale of this land for non-aeronautical development.

DATES: Comments must be received on or before March 2, 2023.

ADDRESSES: Documents are available for review by appointment at the FAA Detroit Airports District Office, Mr. Delvin Lewis, Program Manager, 11677 S Wayne Road, Ste. 107, Romulus, MI 48174, Telephone: (734) 229-2900/Fax: (734) 229-2950 and Mr. Gary Lefeld, Lakefield Airport Authority Board President, Lakefield Airport, Attention Kim Everman, Administrator—Mercer County Commissioners, 220 W Livingston Street, Room A201, Celina, Ohio, 45822. Telephone: (419) 678-2397.

Written comments on the Sponsor's request must be delivered or mailed to: Delvin Lewis, Program Manager, Federal Aviation Administration, Detroit Airports District Office, 11677 S Wayne Road, Ste. 107, Romulus, MI 48174, Telephone Number: (737) 229-2900/FAX Number: (734) 229-2950.

FOR FURTHER INFORMATION CONTACT: Delvin Lewis, Program Manager, Federal Aviation Administration, Detroit Airports District Office, 11677 S Wayne Road, Ste. 107, Romulus, MI 48174. Telephone Number: (734) 229-2922/FAX Number: (734) 229-2950.

SUPPLEMENTARY INFORMATION: In accordance with section 47107(h) of title 49, United States Code, this notice is required to be published in the Federal Register 30 days before modifying the land-use assurance that requires the property to be used for an aeronautical purpose.

The properties are vacant and have no existing aeronautical use. Parcel #11 received Federal reimbursement through Airport Improvement Program (AIP) grant #3-39-0016-014-2011, and Parcel #13 received Federal reimbursement through AIP grant #3-39-0016-005-2002. The sponsor proposes to sell the parcels to non-aviation businesses in an industrial park located adjacent to the subject parcels to expand their existing operations. The sponsor will receive fair market value for the sale of these properties.

The disposition of proceeds from the release of the airport property will be in accordance with FAA's Policy and Procedures Concerning the Use of Airport Revenue, published in the Federal Register on February 16, 1999 (64 FR 7696).

This notice announces that the FAA is considering the release of the subject airport properties at the Lakefield Airport located in Celina, Ohio from its obligations to be maintained for aeronautical purposes. Approval does not constitute a commitment by the FAA to financially assist in the change in use of the subject airport property nor a determination of eligibility for grant-in-aid funding from the FAA.

Legal Description

Parcel 11a—3.489 Acres

Being part of a 35.58 acres tract as recorded in Deed Volume 208 Page 153 in the Southwest Quarter of Section 30, Town 6 South, Range 3 East, Franklin Township, Mercer County, Ohio, and described as follows:

Commencing at an Iron Pin Found marking the Southwest corner of Section 30;

Thence North 89°50′30″ East along the South line of the Southwest Quarter of Section 30, a distance of one thousand eight hundred thirty-eight and seventy-nine hundredths feet (1838.79′) to an Iron Pin Found, marking the TRUE POINT OF BEGINNING;

Thence North 00°04′57″ West along the East line of tracts as recorded in Instrument #202000006905, Instrument #201900000583 and Franklin Drive right-of-way, a distance of seven hundred seventy and zero hundredths feet (770.00′) to an Iron Pin Found;

Thence North 89°50′30″ East a distance of one hundred ninety-seven and forty-three hundredths feet (197.43′) to an Iron Pin Found;

Thence South 00°04′40″ East a distance of seven hundred seventy and zero hundredths feet (770.00′) to an Iron Pin Found;

Thence South 89°50′30″ West along the South line of the Southwest Quarter of Section 30 a distance of one hundred ninety-seven and thirty-six hundredths feet (197.36′) to the TRUE POINT OF BEGINNING, containing 3.489 acres of land more or less.

Said tract to be subject to all highways and any other easements or restrictions of record.

Parcel 13a—3.581 Acres

Being part of a 28.6 acres tract as recorded in Instrument #200300002194 in the Southwest Quarter of Section 30, Town 6 South, Range 3 East, Franklin Township, Mercer County, Ohio, and described as follows:

Commencing at an Iron Pin Found marking the Southwest corner of Section 30;

Thence North 89°50′30″ East along the South line of the Southwest Quarter of Section 30, a distance of two thousand thirty-six and fifteen hundredths feet (2036.15′) to an Iron Pin Found, marking the TRUE POINT OF BEGINNING;

Thence North 00°04′40″ West along the East line of a tract as recorded in Deed Volume 208 Page 153, a distance of seven hundred seventy and zero hundredths feet (770.00′) to an Iron Pin Set;

Thence North 89°50′30″ East a distance of two hundred two and fifty-seven hundredths feet (202.57′) to an Iron Pin Set;

Thence South 00°04′57″ East a distance of seven hundred seventy and zero hundredths feet (770.00′) to an Iron Pin Set;

Thence South 89°50′30″ West along the South line of the Southwest Quarter of Section 30 a distance of two hundred two and sixty-four hundredths feet (202.64′) to the TRUE POINT OF BEGINNING, containing 3.581 acres of land more or less.

Said tract to be subject to all highways and any other easements or restrictions of record.

Issued in Romulus, Michigan, on January 25, 2023.
John L. Mayfield Jr.,
Manager, Detroit Airports District Office, FAA, Great Lakes Region.

[FR Doc. 2023-01863 Filed 1-30-23; 8:45 am]

BILLING CODE 4910-13-P